DEPARTMENT OF THE INTERIOR

Bureau of Ocean Energy Management

[Docket No. BOEM-2023-048]

Notice of Availability of a Joint Record of Decision for the Revolution Wind Farm and Revolution Wind Export Cable Project

AGENCY: Bureau of Ocean Energy Management (BOEM), Interior; National Marine Fisheries Service (NMFS), National Oceanic and Atmospheric Administration (NOAA), Commerce; U.S. Army Corps of Engineers (USACE), Department of the Army (DA).

ACTION: Notice of Availability (NOA); record of decision (ROD).

SUMMARY: BOEM announces the availability of the joint ROD on the Final Environmental Impact Statement (FEIS) for the construction and operations plan (COP) submitted by Revolution Wind, LLC (Revolution Wind) for its Revolution Wind Farm and Revolution Wind Export Cable Project (Project) offshore Rhode Island. The joint ROD includes the Department of the Interior's (DOI) decision regarding the Revolution Wind COP, NMFS' decision regarding Revolution Wind's request for Incidental Take Regulations (ITR) and an associated Letter of Authorization (LOA) under the Marine Mammal Protection Act (MMPA), and the DA's decision regarding authorizations under section 10 of the Rivers and Harbors Act of 1899 (RHA) and section 404 of the Clean Water Act (CWA). NMFS has adopted the FEIS to support its decision of whether or not to promulgate ITRs and issue a LOA to Revolution Wind under the MMPA. USACE has adopted the FEIS to support its decision to issue a DA permit under section 10 of the RHA and section 404 of the CWA. The joint ROD concludes the National Environmental Policy Act (NEPA) process for each agency and is available with associated information on BOEM's website at: https://www.boem.gov/renewable-energy/state-activities/revolution-wind.

FOR FURTHER INFORMATION CONTACT: For information on the Project ROD, please contact Jessica Stromberg, BOEM Office of Renewable Energy Programs, 45600 Woodland Road, VAM-OREP, Sterling, Virginia 20166, (703) 787-1730 or jessica.stromberg@boem.gov. For information related to NMFS' action, contact Katherine Renshaw, NOAA Office of General Counsel, Environmental Review and Coordination Section, (302) 515-0324, katherine.renshaw@noaa.gov. For information related to USACE's action, contact Ruth Brien, New England District Regulatory Division, (978) 318-8054 or ruthann.a.brien@usace.army.mil.

SUPPLEMENTARY INFORMATION: Revolution Wind seeks approval to construct, operate, maintain, and eventually decommission the Project: a wind energy facility on the Outer Continental Shelf (OCS) offshore Rhode Island. The Project would be developed within the range of design parameters outlined in the Revolution Wind COP, subject to applicable mitigation measures. The Project as proposed in the COP would include up to 100 wind turbine generators (WTGs), up to 2 offshore high voltage alternating current substations, inter-array cables linking the individual turbines to the offshore substations, one substation interconnector cable linking the substations to each other, offshore export cables, an onshore export cable system, one onshore substation, and connection to the existing electrical grid at The Narragansett Electric Company Davisville Substation in North Kingstown, Rhode Island. The WTGs, offshore substations, inter-array cables and substation interconnector cables would be located on the OCS approximately 15 nautical miles (18 statute miles) southeast of Point Judith, Rhode Island, within an area defined by Renewable Energy Lease OCS-A 0486 (Lease Area). The offshore export cables would be buried below the seabed in the OCS and State of Rhode Island submerged lands. The onshore export cables, substations, and grid connections would be located in North Kingstown, Rhode Island.

A notice of availability for the FEIS was published in the Federal Register on July 21, 2023. On August 15, 2023, BOEM published an errata on its website that included certain edits to the summary of impacts by alternative tables in the Executive Summary and Chapter 2 of the FEIS to include species-specific impact determinations for North Atlantic Right Whale at the request of NOAA. The errata also provides numbering corrections, and text and footnotes to tables note clarifications in Chapter 3, Appendix E-2, and Appendix F. None of these edits or corrections are substantive or affect the analysis or conclusions in the FEIS. After carefully considering alternatives described and analyzed in the FEIS and comments from the public on the Draft EIS, the DOI has decided to approve the COP for Revolution Wind under the preferred Alternative G, which reduces the installation to 65 WTGs from the Project as proposed in the COP. The full text of the mitigation, monitoring, and reporting requirements, which will be included in BOEM's COP approval, are available in the ROD, which is available on BOEM's website at: https://www.boem.gov/renewable-energy/state-activities/revolution-wind.

NMFS has adopted BOEM's FEIS to support its decision of whether or not to promulgate the requested ITR and issue the associated LOA to Revolution Wind. NMFS' final decision of whether or not to promulgate the requested ITR and issue the LOA will be documented in a separate Decision Memorandum prepared in accordance with internal NMFS policy and procedures. The final ITR and a notice of issuance of the LOA, if issued, will be published in the Federal Register. The LOA would authorize Revolution Wind to take a small number of marine mammals incidental to Project construction and would set forth permissible methods of incidental taking; means of effecting the least practicable adverse impact on the species and its habitat; and requirements for monitoring and reporting. Pursuant to Section 7 of the Endangered Species Act, NMFS issued a final Biological Opinion to BOEM on July 21, 2023, evaluating the effects of the proposed action on ESA-listed species. The proposed action in the opinion includes the associated permits, approvals and authorizations that may be issued.

USACE has decided to adopt BOEM's FEIS and issue a permit to Revolution Wind pursuant to section 10 of the RHA and section 404 of the CWA. The DA permit will authorize Revolution Wind to discharge fill below the high tide line of waters of the United States. It will also authorize Revolution Wind to perform work and place structures below the mean high water mark of navigable waters of the United States and to affix structures to the seabed on the OCS.

Authority: This NOA is published in accordance with regulations (40 CFR parts 1500-1508) implementing the National Environmental Policy Act of 1969, as amended (42 U.S.C. 4321 et seq.).

Karen Baker,
Chief, Office of Renewable Energy Programs, Bureau of Ocean Energy Management.

[FR Doc. 2023-18244 Filed 8-23-23; 8:45 am]

BILLING CODE 4340-98-P